DEPARTMENT OF AGRICULTURE

Submission for OMB Review; Comment Request

July 6, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by August 10, 2017 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Bid for Advertised Timber.

OMB Control Number: 0596-0066.

Summary of Collection: Authorized under 16 U.S.C. 472a, unless extraordinary conditions exist as defined by regulation, the Secretary of Agriculture must (1) advertise sales of all National Forest System timber or forest products exceeding $10,000 in appraised value; (2) select bidding methods that ensure open and fair competition; (3) select bidding methods that ensure that the Federal government receives not less than appraised value of the timber or forest product; and (4) monitor bidding patterns for evidence of unlawful bidding practices. Individuals, large and small businesses, and corporations who wish to purchase timber or forest products from the National Forest must enter into a timber sale contract or Forest product contract with the Forest Service (FS). Information must be collected by FS in order to ensure that: National Forest System timber is sold at not less than appraised value; bidders meet specific criteria when submitting a bid; and anti-trust violations do not occur during the bidding process. Several statutes, regulations, and polices impose requirements on the Government and purchasers in the bidding process.

Need and Use of the Information: FS will collect information using different bid forms FS-2400-42a, FS-2400-14UR, FS-2400-14WA and FS-2400-14TV, and two versions of the Solicitation and Offer for Integrated Resource Contract form FS-2400-14BV and FS-2400-14BVU. The sale officer will ensure: The bidder has signed the bid form; provided a tax identification number; completed the unit rate, weighted average, or total sale value bid; entered the bid guarantee amount, type, and ensure the bid guarantee is enclosed with the bid, the bidder has provided the required information concerning Small Business Administration size and Equal Opportunity compliance on previous sales. The Timber Sale Contracting Officers will use the information to complete the contract prior to award to the highest bidder. Failure to include the required information may result in the bid being declared non-responsive or the Contracting Officer may be unable to make an affirmative finding of purchaser responsibility and not able to award the contract.

Description of Respondents: Business or other for-profit; Individuals or households.

Number of Respondents: 1,089.

Frequency of Responses: Reporting: On occasion.

Total Burden Hours: 68,530.

Forest Service

Title: Federal Excess Personal and Firefighter Property Program Administration.

OMB Control Number: 0596-0223.

Summary of Collection: Federal Excess Personal Property (FEPP) and Firefighter Property (FFP) programs provide state (including U.S. territories) forestry agencies the opportunity to obtain excess Department of Defense and other Federal agencies equipment and supplies to be used in firefighting and emergency services. The authority to provide excess supplies to state agencies comes from Federal Property and Administration Services Act of 1949, as amended, 40 U.S.C., Sec 202. Authority to loan excess supplies comes from 10 U.S.C., Subtitle A, Part IV, Chapter 153, 2576b grants the authority for the FFP.

Need and Use of the Information: The Forest Service (FS) “Federal Excess Property Management Information System (FEPMIS) database allows the FS to collect FEPP and FFP information used to manage property inventory electronically. Access to the database is limited to those state employees with access authorized by FS Management Officers working in the fire and Aviation staff. Each state designates an Accountable Officer who is responsible for the integrity of the program within their respective state and completing the necessary documentation for each program in which the state participates. For this reason FEPP and FFP collects the state forestry agency contact information and the information of the Accountable Officer. Cooperative Agreement forms FS-3100-10 and/or FS-3100-11 are used to collect the required information from the participating state agency that outlines the requirements and rules for the cooperation. Participating state agencies must submit separate agreements if they desire to participate in both programs.

Description of Respondents: State and local government.

Number of Respondents: 56.

Frequency of Responses: Recordkeeping; Reporting: Annual.

Total Burden Hours: 600.

Charlene Parker,
Departmental Information Collection Clearance Officer.

[FR Doc. 2017-14509 Filed 7-10-17; 8:45 am]

BILLING CODE 3411-15-P